RAILROAD RETIREMENT BOARD

Proposed Collection; Comment Request

SUMMARY: In accordance with the requirement of Section 3506 (c)(2)(A) of the Paperwork Reduction Act of 1995 which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

Title and purpose of information collection: Continuing Disability Report; OMB 3220-0187. Under Section 2 of the Railroad Retirement Act, an annuity is not payable or is reduced for any month in which the annuitant works for a railroad or earns more than prescribed dollar amounts from either non-railroad employment or self-employment. Certain types of work may indicate an annuitant's recovery from disability. The provisions relating to the reduction or non-payment of an annuity by reason of work, and an annuitant's recovery from disability for work, are prescribed in 20 CFR 220.17-220.20. The RRB conducts continuing disability reviews (CDR) to determine whether an annuitant continues to meet the disability requirements of the law. Provisions relating to when and how often the RRB conducts CDR's are prescribed in 20 CFR 220.186.

Form G-254, Continuing Disability Report, is used by the RRB to develop information for a CDR determination, including a determination prompted by a report of work, return to railroad service, allegation of medical improvement, or a routine disability review call-up. The RRB proposes the following changes:

• Revise current Item 8 to ask for the response in month and year format since the form may cover multiple years.

• Revise current Item 12a to include the spouse as a source of employment.

• Revise current Item 15k to show the impact the disability has had on their business by asking if the annuitant has had to reduce or restrict the number of their clients or customers.

• Revise current Items 17a and 17b to include asking if the annuitant has made supervisory (as well as managerial) decisions.

• Renumber current Item 31 to Item 31a.

• Create New Item 31b, using a Yes/No format, to identify the annuitant who requires an assistive device such as a cane, oxygen, etc.

• Create New Item 31c to identify the assistive device(s).

• Other minor editorial changes.

Form G-254a, Continuing Disability Update Report, is used to help identify a disability annuitant whose work activity and/or recent medical history warrants completion of Form G-254 for a more extensive review. The RRB proposes adding a request for the social security number of the applicant who is not the employee to resolve any ambiguous issues.

Completion is required to retain a benefit. One response is requested of each respondent to Forms G-254 and G-254a.

Estimate of Annual Respondent Burden
Form number | Annual responses | Time (minutes) | Burden (hours)
G-254 | 1,500 | 5-35 | 623
G-254a | 1,500 | 5 | 125
Total | 3,000 |  | 748

Additional Information or Comments: To request more information or to obtain a copy of the information collection justification, forms, and/or supporting material, contact Dana Hickman at (312) 751-4981 or Dana.Hickman@RRB.GOV. Comments regarding the information collection should be addressed to Charles Mierzwa, Railroad Retirement Board, 844 North Rush Street, Chicago, Illinois 60611-2092 or emailed to Charles.Mierzwa@RRB.GOV. Written comments should be received within 60 days of this notice.

Charles Mierzwa,
Chief of Information Resources Management.

[FR Doc. 2015-06140 Filed 3-16-15; 8:45 am]

BILLING CODE 7905-01-P